DEPARTMENT OF LABOR

Employment and Training Administration

[TA-W-85,243; TA-W-85,243A]

Riverside Manufacturing Company Main Sewing Plant Including Workers Whose Wages are Reported Under Affinity Apparel and Including On-Site Leased Workers From Ambassador Personnel Riverside, Georgia; Riverside Manufacturing Company ReComTec Division Including Workers Whose Wages Are Reported Under Affinity Apparel and Including On-Site Leased Workers From Ambassador Personnel Riverside, Georgia; Amended Certification Regarding Eligibility To Apply for Worker Adjustment Assistance

In accordance with section 223 of the Trade Act of 1974, as amended (“Act”), 19 U.S.C. 2273, the Department of Labor issued a Certification of Eligibility to Apply for Worker Adjustment Assistance on June 24, 2014, applicable to workers of Riverside Manufacturing Company, Main Sewing Plant, including on-site leased workers from Ambassador Personnel, Riverside, Georgia (TA-W-85,243) and Riverside Manufacturing Company, ReComTec Division, including on-site leased workers from Ambassador Personnel, Riverside, Georgia (TA-W-85,243A). The Notice of Determination was published in the Federal Register on July 24, 2014 (79 FR 43094).

At the request of a State Workforce Official, the Department reviewed the certification for workers of the subject firm. The workers' firm is engaged in the production of apparel.

The investigation confirmed that the worker group includes workers whose wages are reported under Affinity Apparel. Based on these findings, the Department is amending this certification to include those workers.

The amended notice applicable to TA-W-85,243 is hereby issued as follows:

All workers of Riverside Manufacturing Company, Main Sewing Plant, including workers whose wages are reported under Affinity Apparel, and including on-site leased workers from Ambassador Personnel, Riverside, Georgia (TA-W-85,243) and Riverside Manufacturing Company, ReComTec Division, including workers whose wages are reported under Affinity Apparel, and including on-site leased workers from Ambassador Personnel, Riverside, Georgia (TA-W-85,243A), who became totally or partially separated from employment on or after April 16, 2013 through June 24, 2016, are eligible to apply for adjustment assistance under Chapter 2 of Title II of the Trade Act of 1974, as amended, and are also eligible to apply for alternative trade adjustment assistance under Section 246 of the Trade Act of 1974, as amended.

Signed in Washington, DC, this 25th day of February, 2015.
Michael W. Jaffe,
Certifying Officer, Office of Trade Adjustment Assistance.

[FR Doc. 2015-06168 Filed 3-17-15; 8:45 am]

BILLING CODE 4510-FN-P